DEPARTMENT OF THE TREASURY

Appointment of Members to the Legal Division Performance Review Board

Under the authority granted to me as General Counsel of the Department of the Treasury, including the authority conferred by 31 U.S.C. 301 and Treasury Department Order No. 101-5 (revised), and pursuant to the Civil Service Reform Act, I hereby appoint the following individuals to the General Counsel Panel of the Legal Division Performance Review Board for Fiscal Year 2005:

James W. Carroll, Jr., Deputy General Counsel, who shall serve as Chairperson;

Thomas M. McGivern, Assistant to the General Counsel (Legislation & Litigation);

Russell L. Munk, Assistant General Counsel (International Affairs);

Kenneth R. Schmalzbach, Assistant General Counsel (General Law and Ethics);

Roberta K. McInerney, Assistant General Counsel (Banking and Finance);

Marilyn L. Muench, Deputy Assistant General Counsel (International Affairs);

Peter A. Bieger, Deputy Assistant General Counsel (Banking and Finance);

Daniel P. Shaver, Chief Counsel, United States Mint;

Robert M. Tobiassen, Chief Counsel, Alcohol and Tobacco Tax and Trade Bureau;

Sean M. Thornton, Chief Counsel, Office of Foreign Assets Control;

Brian L. Ferrell, Chief Counsel, Financial Crimes Enforcement Network;

Michael J. Davidson, Chief Counsel, Bureau of Engraving & Printing; and

Margaret V. Marquette, Chief Counsel, Financial Management Service.

Dated: October 6, 2005.
Arnold I. Havens,
General Counsel.

[FR Doc. 05-20476 Filed 10-12-05; 8:45 am]

BILLING CODE 4811-37-P